DEPARTMENT OF COMMERCE

National Oceanic and Atmospheric Administration

RIN 0648-XR64

Marine Mammals; File No. 1000-1617

AGENCY: National Marine Fisheries Service (NMFS), National Oceanic and Atmospheric Administration (NOAA), Commerce.

ACTION: Notice; withdrawal of application.

SUMMARY: Notice is hereby given that Whitlow Au, PhD, University of Hawaii, Hawaii Institute of Marine Biology, Marine Mammal Research Program, PO Box 1106, Kailua, Hawaii 96734, has withdrawn an application to amend Scientific Research Permit No. 1000-1617-04.

ADDRESSES: The documents related to this action are available for review upon written request or by appointment in the following offices:

Permits, Conservation and Education Division, Office of Protected Resources, NMFS, 1315 East-West Highway, Room 13705, Silver Spring, MD 20910; phone (301)713-2289; fax (301)713-0376;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)944-2200; fax (808)973-2941.

FOR FURTHER INFORMATION CONTACT: Kristy Beard or Carrie Hubard, (301)713-2289.

SUPPLEMENTARY INFORMATION: On April 16, 2009, a notice was published in the Federal Register (74 FR 17635) that Dr. Au had submitted an application to amend Permit No. 1000-1617-04, which authorizes behavioral observations, photo-identification, genetic sampling, and suction-cup tagging of cetaceans in Hawaii and California. The amendment was requested under the authority of the Marine Mammal Protection Act of 1972, as amended (16 U.S.C. 1361 et seq.), the regulations governing the taking and importing of marine mammals (50 CFR part 216), and the Endangered Species Act of 1973, as amended (16 U.S.C. 1531 et seq.). The applicant has withdrawn his application.

Dated: September 14, 2009.
P. Michael Payne,
Chief, Permits, Conservation and Education Division, Office of Protected Resources, National Marine Fisheries Service.

[FR Doc. E9-22415 Filed 9-16-09; 8:45 am]

BILLING CODE 3510-22-S